DEPARTMENT OF STATE

[Delegation of Authority No. 513]

Delegation of the Authorities of the Secretary

By virtue of the authority vested in the Secretary of State by the laws of the United States, including 22 U.S.C. 2651a, I hereby delegate to the Deputy Secretary and the Deputy Secretary for Management and Resources, to the extent authorized by law, all authorities and functions vested in the Secretary of State or the head of agency by any act, order, determination, delegation of authority, regulation, or executive order, now or hereafter issued.

This Delegation includes all authorities and functions that have been or may be delegated or re-delegated to other Department officials but does not repeal delegations to such officials.

The Secretary of State may exercise any authority or function delegated herein.

This Delegation of Authority supersedes Delegation of Authority 245-2, dated July 31, 2017.

This memorandum shall be published in the Federal Register.

Dated: April 7, 2021.
Antony J. Blinken,
Secretary of State, Department of State.

[FR Doc. 2021-07744 Filed 4-14-21; 8:45 am]

BILLING CODE 4710-10-P